ENVIRONMENTAL PROTECTION AGENCY

[EPA-HQ-OPPT-2021-0245; FRL-9784-01-OMS]

Information Collection Request Submitted to OMB for Review and Approval; Comment Request; EPA's Safer Choice Program Product and Partner Recognition Activities

AGENCY: Environmental Protection Agency (EPA).

ACTION: Notice.

SUMMARY: The Environmental Protection Agency (EPA) has submitted an information collection request (ICR), Safer Choice Program Product and Partner Recognition Activities, (EPA ICR Number 2692.01, OMB Control Number 2070-NEW) to the Office of Management and Budget (OMB) for review and approval in accordance with the Paperwork Reduction Act. This is a request to renew and combine the approval of two existing ICRs (2070-0178 and 2070-0189) that are currently approved through May 31, 2022, and November 30, 2022, respectively. Public comments were previously requested via the Federal Register on June 28, 2021, during a 60-day comment period. This notice allows for an additional 30 days for public comments. A fuller description of the ICR is given below, including its estimated burden and cost to the public. An agency may not conduct or sponsor and a person is not required to respond to a collection of information unless it displays a currently valid OMB control number.

DATES: Additional comments may be submitted on or before May 25, 2022.

ADDRESSES: Submit your comments to EPA, referencing Docket ID No. EPA-HQ-OPPT-2021-0245, online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

EPA's policy is that all comments received will be included in the docket without change, including any personal information provided, unless the comment includes profanity, threats, information claimed to be Confidential Business Information (CBI), or other information whose disclosure is restricted by statute. Do not submit electronically any information you consider to be CBI or other information whose disclosure is restricted by statute. For additional information about EPA's public docket, visit https://www.epa.gov/dockets.

FOR FURTHER INFORMATION CONTACT: General contact: Katherine Sleasman, Mission Support Division, 7101M, Office of Program Support, Office of Chemical Safety and Pollution Prevention, Environmental Protection Agency, 1200 Pennsylvania Ave. NW, Washington, DC 20460; telephone number: (202) 566-1204; email address: sleasman.katherine@epa.gov.

Technical contact: Linda Rutsch, Data Gathering and Analysis Division, 7406M, Office of Pollution Prevention and Toxics, Environmental Protection Agency, 1200 Pennsylvania Ave. NW, Washington, DC 20460; telephone number: (202) 343-9924; email address: rutsch.linda@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Abstract: This ICR will cover the information collection activities and burden associated with the reporting and recordkeeping obligations of individuals, businesses, organizations, and government entities participating in or collaborating with EPA's Safer Choice program. The programs are designed to: Improve data efficiency by electronic data collection via a cloud-based Salesforce system called the Safer Choice Community; monitor the public's awareness of the Safer Choice program and label; and clarify the Safer Choice Partner of the Year Awards application process and form.

Form numbers: 9600-017, 9600-018, 9600-019, 9600-020, 9600-21, 9600-022, and 9600-023.

Respondents/affected entities: The ICR provides a list of the North American Industrial Classification System (NAICS) codes associated with the various industries most likely affected by the paperwork activities covered in this ICR.

Respondent's obligation to respond: Voluntary.

Frequency of response: On occasion.

Estimated number of respondents: 7,566 (total).

Total estimated burden: 9,696 hours. Burden is defined at 5 CFR 1320.3(b).

Total estimated costs: $751,942 (per year). This includes an estimated burden cost of $206,342 and an estimated cost of $545,600 for non-burden hour paperwork costs, e.g., capital investment or maintenance and operational costs.

Changes in the estimates: The total combined burden from the two approved ICRs that are being combined in this request is 7,118 hours (4,788 hours and 2,330 hours, respectively). The total burden requested for this ICR is 9,696 hours, resulting in an overall increase of 2,578 hours from the estimated combined burden compared with that currently approved by OMB. The difference is primarily due to the inclusion of the activities and burden associated with Partner of the Year Award activities (1,575 hours) and minor adjustments were made in EPA's estimates of the number of respondents and of the burden. Specifically, the burden for previously approved EPA ICR No. 2487.02 increased by 1,003 hours (from 2,330 to 3,333 hours). The burden for previously approved EPA ICR No. 2302.03 has not changed, remaining at 4,788 hours. The total combined cost for the existing ICRs is $545,600 ($545,600 and $0, respectively). The total cost requested for this ICR remains the same. These changes are adjustments.

Courtney Kerwin,
Director, Regulatory Support Division.

[FR Doc. 2022-08709 Filed 4-22-22; 8:45 am]

BILLING CODE 6560-50-P